DEPARTMENT OF ENERGY

Federal Energy Regulatory Commission

[Docket No. RP00-312-000]

ANR Pipeline Company; Notice of Proposed Changes in FERC Gas Tariff

June 5, 2000.

Take notice that on May 31, 2000, ANR Pipeline Company (ANR) tendered for filing as part of its FERC Gas Tariff, Second Revised Volume No. 1, the following tariff sheets proposed to become effective June 1, 2000:

Forty-second Revised Sheet No. 8,

Forty-second Revised Sheet No. 9,

Forty-first Revised Sheet No. 13, Fifty-first Revised Sheet No. 18

ANR states that the above-referenced tariff sheets are being filed to implement recovery of approximately $2.5 million of above-market costs that are associated with its obligations to Dakota Gasification Company (“Dakota”). ANR proposes a reservation surcharge applicable to its Part 284 firm transportation customers to collect ninety percent (90%) of the Dakota costs, and an adjustment to the maximum base tariff rates of Rate Schedule ITS and overrun rates applicable to Rate Schedule FTS-2, so as to recover the remaining ten percent (10%). ANR advises that this filing also includes the annual restatement of the “Eligible MDQ” used to design the reservation surcharge. ANR also advises that the proposed changes would decrease current quarterly Above-Market Dakota Cost recoveries from $2,586,210 to $2,543,133.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-14572 Filed 6-8-00; 8:45 am]

BILLING CODE 6717-01-M